DEPARTMENT OF HOMELAND SECURITY

Federal Emergency Management Agency

44 CFR Part 67

[Docket No. FEMA-D-7682]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Caswell County, North Carolina and Incorporated Areas
Bear Branch | At the confluence with Moon Creek | None | +426 | Caswell County (Unincorporated Areas).
| Approximately 2.6 miles upstream of the confluence with Moon Creek | None | +469
Tributary 1 | At the confluence with Bear Branch | None | +432 | Caswell County (Unincorporated Areas).
| Approximately 900 feet upstream of the confluence with Bear Branch | None | +432
Tributary 2 | At the confluence with Bear Branch | None | +457 | Caswell County (Unincorporated Areas).
| Approximately 0.6 mile upstream of the confluence with Bear Branch | None | +480
Benaja Creek | At the confluence with South Country Line Creek | None | +430 | Caswell County (Unincorporated Areas).
| Approximately 0.5 mile upstream of the confluence with South Country Line Creek | None | +437
Burkes Creek | At the confluence with Penson Creek | None | +462 | Caswell County (Unincorporated Areas).
| Approximately 150 feet upstream of Oakview Loop Road (SR 1156) | None | +570
Burlington Reservoir | Backwater area approximately 0.8 mile west along Caswell/Alamance County boundary from Tom's Creek Crossing County boundary | None | +579 | Caswell County (Unincorporated Areas).
Byrds Creek | At the confluence with South Country Line Creek | None | +457 | Caswell County (Unincorporated Areas).
| Approximately 2.6 miles upstream of Fitch Road (SR 1751) | None | +581
Cane Creek | At the confluence with Dan River | None | +384 | Caswell County (Unincorporated Areas).
| Approximately 250 feet upstream of Mountain Hill Road (SR 1527) | None | +384
Cobbs Creek | At the Caswell/Person County boundary | None | +422 | Caswell County (Unincorporated Areas).
| Approximately 75 feet upstream of Old Durham Road (SR 1700) | None | +536
Tributary 1 | At the confluence with Cobbs Creek | None | +436 | Caswell County (Unincorporated Areas).
| Approximately 1.5 miles upstream of the confluence with Cobbs Creek | None | +495
Country Line Creek | Approximately 0.6 mile downstream of Broad Street | None | +377 | Caswell County (Unincorporated Areas), Town of Milton, Town of Yanceyville.
| Approximately 1.4 miles upstream of Camp Springs Road (SR 1146) | None | +603
Tributary 1 | At the confluence with Country Line Creek | None | +377 | Caswell County (Unincorporated Areas), Town of Milton.
| Approximately 0.5 mile upstream of Doll Branch Road (SR 1538) | None | +461
Tributary 10 | At the confluence with Country Line Creek | None | +426 | Caswell County (Unincorporated Areas).
| Approximately 0.6 mile upstream of the confluence with Country Line Creek | None | +447
Tributary 11 | At the confluence with Country Line Creek | None | +431 | Caswell County (Unincorporated Areas).
| Approximately 2.1 miles upstream of NC Highway 62 | None | +504
Tributary 12 | At the confluence with Country Line Creek | None | +499 | Caswell County (Unincorporated Areas).
| Approximately 0.8 mile upstream of the confluence with Country Line Creek | None | +499
Tributary 13 | At the confluence with Country Line Creek | None | +499 | Caswell County (Unincorporated Areas).
| Approximately 1.8 miles upstream of the confluence with Country Line Creek | None | +537
Tributary 14 | At the confluence with Country Line Creek | None | +500 | Caswell County (Unincorporated Areas).
| Approximately 1.7 miles upstream of the confluence with Country Line Creek | None | +557
Tributary 15 | At the confluence with Country Line Creek | None | +500 | Caswell County (Unincorporated Areas).
| Approximately 1.4 miles upstream of the confluence with Country Line Creek | None | +529
Tributary 16 | At the confluence with Country Line Creek | None | +511 | Caswell County (Unincorporated Areas).
| Approximately 2.1 miles upstream of the confluence with Country Line Creek | None | +586
Tributary 16A | At the confluence with Country Line Creek Tributary 16 | None | +518 | Caswell County (Unincorporated Areas).
| Approximately 0.7 mile upstream of the confluence with Country Line Creek Tributary 16 | None | +548
Tributary 17 | At the confluence with Country Line Creek | None | +531 | Caswell County (Unincorporated Areas).
| Approximately 0.7 mile upstream of the confluence with Country Line Creek | None | +559
Tributary 18 | At the confluence with Country Line Creek | None | +538 | Caswell County (Unincorporated Areas).
| Approximately 0.6 mile upstream of the confluence with Country Line Creek | None | +561
Tributary 19 | At the confluence with Country Line Creek | None | +542 | Caswell County (Unincorporated Areas).
| Approximately 1.1 miles upstream of the confluence with Country Line Creek | None | +591
Tributary 19A | At the confluence with Country Line Creek Tributary 19 | None | +550 | Caswell County (Unincorporated Areas).
| Approximately 1.3 miles upstream of the confluence with Country Line Creek Tributary 19 | None | +605
Tributary 2 | At the confluence with Country Line Creek | None | +377 | Caswell County (Unincorporated Areas).
| Approximately 0.5 mile upstream of the confluence with Country Line Creek | None | +378
Tributary 3 | At the confluence with Country Line Creek | None | +390 | Caswell County (Unincorporated Areas).
| Approximately 1.4 miles upstream of the confluence with Country Line Creek | None | +414
Tributary 4 | At the confluence with Country Line Creek | None | +392 | Caswell County (Unincorporated Areas).
| Approximately 1.2 miles upstream of the confluence with Country Line Creek | None | +409
Tributary 5 | At the confluence with Country Line Creek | None | +395 | Caswell County (Unincorporated Areas).
| Approximately 0.7 mile upstream of the confluence with Country Line Creek | None | +401
Tributary 6 | At the confluence with Country Line Creek | None | +407 | Caswell County (Unincorporated Areas).
| Approximately 0.5 mile upstream of the confluence with Country Line Creek | None | +409
Tributary 7 | At the confluence with Country Line Creek | None | +408 | Caswell County (Unincorporated Areas).
| Approximately 1.4 miles upstream of the confluence with Country Line Creek | None | +456
Tributary 8 | At the confluence with Country Line Creek | None | +412 | Caswell County (Unincorporated Areas).
| Approximately 0.9 mile upstream of the confluence with Country Line Creek | None | +432
Tributary 9 | At the confluence with Country Line Creek | None | +417 | Caswell County (Unincorporated Areas).
| Approximately 1.4 miles upstream of the confluence with Country Line Creek | None | +451
Coy Creek | At the confluence with Dan River | None | +388 | Caswell County (Unincorporated Areas).
| Approximately 1.1 miles upstream of the confluence with Dan River | None | +392
Dan River (downstream reach) | Approximately 250 feet downstream of North Broad Street (SR 57) | None | +378 | Caswell County (Unincorporated Areas), Town of Milton.
| Approximately 1.0 mile upstream of the confluence of Hogans Creek | None | +395
Dan River (near Williamson Creek) | At the NC/VA State boundary | None | +466 | Caswell County (Unincorporated Areas).
| At the Caswell/Rockingham County boundary | None | +470
Dan River Tributary 1 | At the North Carolina/Virginia State boundary | None | +466 | Caswell County (Unincorporated Areas).
| Approximately 1.2 miles upstream of the North Carolina/Virginia State boundary | None | +479
East Prong Moon Creek | At the confluence with Moon Creek | None | +432 | Caswell County (Unincorporated Areas).
| Approximately 2.7 miles upstream of Hodges Dairy Road | None | +547
Tributary 1 | At the confluence with East Prong Moon Creek | None | +498 | Caswell County (Unincorporated Areas).
| Approximately 400 feet upstream of James Foster Road (SR 1312) | None | +517
Tributary 2 | At the confluence with East Prong Moon Creek | None | +501 | Caswell County (Unincorporated Areas).
| Approximately 0.8 mile upstream of the confluence with East Prong Moon Creek | None | +528
Tributary 3 | At the confluence with East Prong Moon Creek | None | +503 | Caswell County (Unincorporated Areas).
| Approximately 2.4 miles upstream of the confluence with East Prong Moon Creek | None | +570
Glasby Branch | At the confluence with Cane Creek | None | +384 | Caswell County (Unincorporated Areas).
| At the Caswell County, NC/Pittsylvania County, VA State boundary | None | +408
Grays Branch | At the confluence with Stony Creek | None | +619 | Caswell County (Unincorporated Areas).
| Approximately 1.5 miles upstream of Shaw Road | None | +738
Hyco Creek Tributary 1 | At the confluence with Hyco Creek | None | +522 | Caswell County (Unincorporated Areas).
| Approximately 1.2 miles upstream of the confluence with Hyco Creek | None | +586
Hogans Creek | At the confluence with Dan River | None | +393 | Caswell County (Unincorporated Areas).
| Approximately 1,000 feet upstream of the Rockingham/Caswell County boundary | None | +476
Hogans Creek Tributary 1 | At the confluence with Hogans Creek | None | +397 | Caswell County (Unincorporated Areas).
| Approximately 120 feet downstream of NC Highway 86 | None | +418
Tributary 1A | At the confluence with Hogans Creek Tributary 1 | None | +399 | Caswell County (Unincorporated Areas).
| Approximately 740 feet upstream of the confluence with Hogans Creek Tributary 1 | None | +404
Tributary 2 | At the confluence with Hogans Creek | None | +400 | Caswell County (Unincorporated Areas).
| Approximately 0.4 mile upstream of NC Highway 86 | None | +417
Tributary 3 | At the confluence with Hogans Creek | None | +420 | Caswell County (Unincorporated Areas).
| Approximately 200 feet downstream of Chigger Ridge Road | None | +420
Tributary 4 | At the Rockingham/Caswell County boundary | None | +476 | Caswell County (Unincorporated Areas).
| Approximately 1,500 feet upstream of the Rockingham/Caswell County boundary | None | +479
Hostler Branch | At the confluence with Country Line Creek | None | +507 | Caswell County (Unincorporated Areas).
| Approximately 4.9 miles upstream of NC Highway 150 | None | +637
Tributary 1 | At the confluence with Hostler Branch | None | +531 | Caswell County (Unincorporated Areas).
| Approximately 0.7 mile upstream of the confluence with Hostler Branch | None | +556 |
Hyco Creek | Approximately 1.9 miles downstream of the confluence with Kilgore Creek (into Hyco Creek) | None | +413 | Caswell County (Unincorporated Areas).
| Approximately 2.0 miles upstream of Gunn Poole Road (SR 1767) | None | +572 |
Hyco Lake | Entire shoreline within Caswell County | None | +413 | Caswell County (Unincorporated Areas).
Kilgore Creek (into Country Line Creek) | At the confluence with Country Line Creek | None | +386 | Caswell County (Unincorporated Areas).
| Approximately 1.2 miles upstream of Jack Pointer Road (SR 1557) | None | +430 |
Kilgore Creek (into Hyco Creek) | At the confluence with Hyco Creek | None | +427 | Caswell County (Unincorporated Areas).
| Approximately 2.1 miles upstream of U.S. 158 | None | +562 |
Little Wolf Island Creek | At the confluence with Wolf Island Creek | None | +472 | Caswell County (Unincorporated Areas).
| Approximately 0.6 mile upstream of the confluence with Wolf Island Creek | None | +475 |
Lick Fork Creek | At the confluence with Hogans Creek | None | +470 | Caswell County (Unincorporated Areas).
| At the Rockingham/Caswell County boundary | None | +470 |
Little Rattlesnake Creek | At the confluence with Dan River | None | +383 | Caswell County (Unincorporated Areas).
| Approximately 1,500 feet upstream of Old Saterfield Road (SR 1534) | None | +459 |
Lynch Creek | At the confluence with Hyco Creek | None | +477 | Caswell County (Unincorporated Areas).
| Approximately 1.5 miles upstream of Dave Smith Road (SR 1771) | None | +565 |
Tributary 1 | At the confluence with Lynch Creek | None | +512 | Caswell County (Unincorporated Areas).
| Approximately 2.1 miles upstream of the confluence with Lynch Creek | None | +606 |
Tributary 2 | At the confluence with Lynch Creek | None | +536 | Caswell County (Unincorporated Areas).
| At the Caswell/Alamance County boundary | None | +617 |
Moon Creek | At the confluence with Dan River | None | +391 | Caswell County (Unincorporated Areas).
| Approximately 700 feet upstream of Big Oak Farm Road (SR 1303) | None | +504 |
Tributary 1 | At the confluence with Moon Creek | None | +391 | Caswell County (Unincorporated Areas).
| Approximately 1.2 miles upstream of the confluence with Moon Creek | None | +514 |
Tributary 2 | At the confluence with Moon Creek | None | +393 | Caswell County (Unincorporated Areas).
| Approximately 1,800 feet upstream of the confluence with Moon Creek | None | +395 |
Tributary 3 | At the confluence with Moon Creek | None | +401 | Caswell County (Unincorporated Areas).
| Approximately 0.8 mile upstream of the confluence with Moon Creek | None | +436 |
Tributary 4 | At the confluence with Moon Creek | None | +403 | Caswell County (Unincorporated Areas).
| Approximately 1,400 feet upstream of the confluence with Moon Creek | None | +408 |
Tributary 5 | At the confluence with Moon Creek | None | +414 | Caswell County (Unincorporated Areas).
| Approximately 0.6 mile upstream of the confluence with Moon Creek | None | +435 |
Tributary 6 | At the confluence with Moon Creek | None | +415 | Caswell County (Unincorporated Areas).
| Approximately 1,350 feet upstream of the confluence with Moon Creek | None | +425 |
Nats Fork | At the confluence with Country Line Creek | None | +500 | Caswell County (Unincorporated Areas).
| Approximately 0.8 mile upstream of the confluence with Country Line Creek | None | +503 |
Negro Creek | At the confluence with Hyco Creek | None | +489 | Caswell County (Unincorporated Areas).
| Approximately 0.8 mile upstream of the confluence of Negro Creek Tributary 2 | None | +617 |
Tributary 1 | At the confluence with Negro Creek | None | +499 | Caswell County (Unincorporated Areas).
| Approximately 1.3 miles upstream of Gunn Poole Road (SR 1767) | None | +635 |
Tributary 2 | At the confluence with Negro Creek | None | +592 | Caswell County (Unincorporated Areas).
| Approximately 0.8 mile upstream of the confluence with Negro Creek | None | +643 |
North Fork Rattlesnake Creek | At the confluence with Rattlesnake Creek | None | +389 | Caswell County (Unincorporated Areas).
| Approximately 3.2 miles upstream of Slade Road | None | +543 |
Panthers Branch | At the confluence with Hyco Creek | None | +475 | Caswell County (Unincorporated Areas).
| Approximately 1.7 miles upstream of Barnwell Road (SR 1774) | None | +634 |
Tributary 1 | At the confluence with Panthers Branch | None | +500 | Caswell County (Unincorporated Areas).
| Approximately 2.4 miles upstream of the confluence with Negro Creek | None | +620 |
Penson Creek | At the confluence with South Country Line Creek | None | +452 | Caswell County (Unincorporated Areas).
| Approximately 0.9 mile upstream of Badgett Sisters Parkway (SR 1156) | None | +593
Pumpkin Creek | At the North Carolina/Virginia State boundary | None | +443 | Caswell County (Unincorporated Areas).
| Approximately 1.3 miles upstream of the North Carolina/Virginia State boundary | None | +472 |
Rattlesnake Creek | At the confluence with Dan River | None | +389 | Caswell County (Unincorporated Areas).
| At the confluence of North Fork and South Fork Rattlesnake Creeks | None | +389 |
Tributary 1 | At the confluence with Rattlesnake Creek | None | +389 | Caswell County (Unincorporated Areas).
| Approximately 0.7 mile upstream of the confluence with Rattlesnake Creek | None | +396 |
Tributary 2 | At the confluence with Rattlesnake Creek | None | +389 | Caswell County (Unincorporated Areas).
| Approximately 1.9 miles upstream of the confluence with Rattlesnake Creek | None | +436
Tributary 2A | At the confluence with Rattlesnake Creek Tributary 2 | None | +389 | Caswell County (Unincorporated Areas).
| Approximately 1.6 miles upstream of the confluence with Rattlesnake Creek Tributary 2 | None | +470
Reedy Fork Creek | Approximately 1.2 miles downstream of the confluence with Reedy Fork Creek Tributary 1 | None | +413 | Caswell County (Unincorporated Areas).
| Approximately 4.9 miles upstream of U.S. 158 | None | +550
Tributary 1 | At the confluence with Reedy Fork Creek | None | +426 | Caswell County (Unincorporated Areas).
| Approximately 0.7 mile upstream of the confluence with Reedy Fork Creek | None | +451
Tributary 2 | At the confluence with Reedy Fork Creek | None | +437 | Caswell County (Unincorporated Areas).
| Approximately 0.7 mile upstream of the confluence with Reedy Fork Creek | None | +453
South Country Line Creek | At the confluence with Country Line Creek | None | +426 | Caswell County (Unincorporated Areas).
| Approximately 3.7 miles upstream of Rascoe Dameron Road (SR 1759) | None | +594
Tributary 1 | At the confluence with South Country Line Creek | None | +446 | Caswell County (Unincorporated Areas).
| Approximately 875 feet upstream of the confluence with South Country Line Creek | None | +446
Tributary 2 | At the confluence with South Country Line Creek | None | +450 | Caswell County (Unincorporated Areas).
| Approximately 2.9 miles upstream of the confluence with South Country Line Creek | None | +552
Tributary 2A | At the confluence with South Country Line Creek Tributary 2 | None | +463 | Caswell County (Unincorporated Areas).
| Approximately 1.8 miles upstream of the confluence with South Country Line Creek Tributary 2 | None | +536
Tributary 2A1 | At the confluence with South Country Line Creek Tributary 2A | None | +476 | Caswell County (Unincorporated Areas).
| Approximately 0.4 mile upstream of the confluence with South Country Line Creek Tributary 2A | None | +506
Tributary 3 | At the confluence with South Country Line Creek | None | +486 | Caswell County (Unincorporated Areas).
| Approximately 0.9 mile upstream of the confluence with South Country Line Creek | None | +532
Tributary 4 | At the confluence with South Country Line Creek | None | +518 | Caswell County (Unincorporated Areas).
| Approximately 1.4 miles upstream of the confluence with South Country Line Creek | None | +574
South Fork Rattlesnake Creek | At the confluence with Rattlesnake Creek | None | +389 | Caswell County (Unincorporated Areas), Town of Yanceyville.
| Approximately 600 feet downstream of Fire Tower Road | None | +536
South Hyco Creek | Approximately 1,300 feet downstream from the toe of South Hyco Dam | None | +445 | Caswell County (Unincorporated Areas).
| At the Caswell/Orange County boundary | None | +590
Tributary 2 | At the Caswell/Person County boundary | None | +553 | Caswell County (Unincorporated Areas).
| Approximately 700 feet upstream of the Caswell/Person County boundary | None | +572
Sugartree Creek | At the confluence with South Hyco Creek | None | +486 | Caswell County (Unincorporated Areas).
| Approximately 2.5 miles upstream of Wrenn Road | None | +599
Tardy Branch | At the confluence with Wolf Island Creek | None | +468 | Caswell County (Unincorporated Areas).
| Approximately 0.9 mile upstream of the confluence with Wolf Island Creek | None | +480
Toms Creek | Approximately 50 feet downstream of the Alamance/Caswell County boundary | None | +596 | Caswell County (Unincorporated Areas).
| Approximately 0.6 mile upstream of Kerr's Chapel Road | None | +637
West Prong Moon Creek | At the confluence with East Prong Moon Creek | None | +478 | Caswell County (Unincorporated Areas).
| Approximately 250 feet upstream of Jones Road (SR 1315) | None | +531
Wolf Island Creek | At the confluence with Dan River | None | +468 | Caswell County (Unincorporated Areas).
| At the Caswell/Rockingham County boundary | None | +484
* National Geodetic Vertical Datum.
# Depth in feet above ground.
+ North American Vertical Datum.
ADDRESSES
Caswell County (Unincorporated Areas)
Maps are available for inspection at The Caswell County Planning Department, 144 Main Street, Yanceyville, North Carolina.
Send comments to Mr. Nathaniel Hall, Caswell County Commissioners Chairman, P.O. Box 98, Yanceyville, North Carolina 27379.
Town of Milton
Maps are available for inspection at The Caswell County Planning Department, 144 Main Street, Yanceyville, North Carolina.
Send comments to The Honorable Walter L. Thomas, IV, Mayor of the Town of Milton, P.O. Box 248, Milton, North Carolina 27305.
Town of Yanceyville
Maps are available for inspection at the City of Yanceyville Planning Office, 200 East Church Street, Yanceyville, North Carolina.
Send comments to The Honorable Daniel Printz, Mayor of the City of Yanceyville, P.O. Box 918, Yanceyville, North Carolina 27379.

(Catalog of Federal Domestic Assistance No. 83.100, “Flood Insurance.”)

Dated: November 6, 2006.
David I. Maurstad,
Director, Mitigation Division, Federal Emergency Management Agency, Department of Homeland Security.

[FR Doc. E6-19110 Filed 11-13-06; 8:45 am]

BILLING CODE 9110-12-P